DEPARTMENT OF ENERGY

Western Area Power Administration

Big Stone II Power Plant and Transmission Project Draft Environmental Impact Statement (DOE/EIS-0377)

AGENCY: Western Area Power Administration, DOE.

ACTION: Notice extending comment period.

SUMMARY: The Western Area Power Administration (Western), U.S. Department of Energy (DOE), Upper Great Plains Customer Service Region, and the Rural Utilities Service (U.S. Department of Agriculture), and U.S. Army Corps of Engineers (U.S. Department of Defense) as cooperating agencies, announce the extension of the public comment period for the Big Stone II Power Plant and Transmission Project Draft Environmental Impact Statement (EIS).

DATES: The comment period on the Draft EIS is extended until July 24, 2006.

ADDRESSES: Written comments on the Draft EIS should be addressed to Ms. Nancy Werdel, NEPA Document Manager, Western Area Power Administration, P.O. Box 281213, Lakewood, CO 80228-8213, fax (720) 962-7263 or 7269, or e-mail BigStoneEIS@wapa.gov.

FOR FURTHER INFORMATION CONTACT: For further information or to request a copy or summary of the Draft EIS, contact Ms. Nancy Werdel, NEPA Document Manager, Western Area Power Administration, P.O. Box 281213, Lakewood, CO 80228-8213, (800) 336-7288, fax (720) 962-7263 or 7269, or e-mail BigStoneEIS@wapa.gov.

For general information on DOE's NEPA review process, contact: Carol M. Borgstrom, Director, Office of NEPA Policy and Compliance, EH-42, U.S. Department of Energy, Washington, D.C. 20585, (202) 586-4600 or (800) 472-2756.

SUPPLEMENTARY INFORMATION: On May 23, 2006, Western published a notice in the Federal Register (71 FR 29617) announcing the availability of the Draft EIS and a schedule for public hearings. The Environmental Protection Agency published its notice of availability of the Draft EIS (EPA EIS No. 20060178) on May 19, 2006 (71 FR 29148), that began a 45-day comment period, ending July 3, 2006. Based on requests received from agencies and members of the public, Western is extending the comment period until July 24, 2006. Further information on this proceeding is contained in the DOE Notice of Availability previously referenced.

Dated: June 28, 2006.
Michael S. Hacskaylo,
Administrator.

[FR Doc. E6-10656 Filed 7-6-06; 8:45 am]

BILLING CODE 6450-01-P